DEPARTMENT OF AGRICULTURE

Animal and Plant Health Inspection Service

[Docket No. APHIS-2020-0027]

Notice of Request for Reinstatement of an Information Collection; Conditions for Payment of Avian Influenza Indemnity Claims

ACTION: Reinstatement of an information collection; comment request.

SUMMARY: In accordance with the Paperwork Reduction Act of 1995, this notice announces the Animal and Plant Health Inspection Service's intention to request the reinstatement of an information collection associated with the regulations for payment of avian influenza indemnity claims.

DATES: We will consider all comments that we receive on or before July 21, 2020.

ADDRESSES: You may submit comments by either of the following methods:

• Federal eRulemaking Portal: Go to http://www.regulations.gov/#!docketDetail;D=APHIS-2020-0027.

• Postal Mail/Commercial Delivery: Send your comment to Docket No. APHIS-2020-0027, Regulatory Analysis and Development, PPD, APHIS, Station 3A-03.8, 4700 River Road Unit 118, Riverdale, MD 20737-1238.

Supporting documents and any comments we receive on this docket may be viewed at http://www.regulations.gov/#!docketDetail;D=APHIS-2020-0027 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations related to avian influenza indemnity, contact Dr. Elena Behnke, Senior Coordinator, National Poultry Improvement Plan, Veterinary Services, APHIS, 1506 Klondike Road SW, Suite 101, Conyers, GA 30094; (770) 922-3496; Elena.Behnke@usda.gov. Alternatively, contact Dr. Patricia Fox-Turner, National Epidemiology Officer—Avian Health, Veterinary Services, APHIS, 6 Thorn Brook Court, Durham, NC 27703; (919) 855-7258; patricia.e.fox@usda.gov. For further information on the information collection process, contact Mr. Joseph Moxey, APHIS Information Collection Coordinator, at (301) 851-2483.

SUPPLEMENTARY INFORMATION:

Title: Conditions for Payment of Avian Influenza Indemnity Claims.

OMB Control Number: 0579-0440.

Type of Request: Reinstatement of an information collection.

Abstract: The Animal Health Protection Act of 2002 (7 U.S.C. 8301 et seq.) is the primary Federal law governing the protection of animal health. The law gives the Secretary of Agriculture broad authority to detect, control, or eradicate pests or diseases of livestock or poultry. The Secretary may also prohibit or restrict import or export of any animal or related material if necessary to prevent the spread of any livestock or poultry pest or disease.

U.S. animal health policy calls for elimination of the avian influenza virus (both highly pathogenic and low pathogenicity strains) when found through depopulation (i.e., euthanasia and disposal) of affected poultry. The Animal and Plant Health Inspection Service (APHIS) works with State and local animal health officials to euthanize poultry, clean and disinfect premises and equipment, and test for elimination of the virus to ensure that farms can be safely restocked. To accomplish this, APHIS Veterinary Services assists State and local animal health officials and poultry producers with creating and applying biosecurity and response plans, developing and enforcing flock plans and compliance agreements, preparing and processing appraisal and indemnity claims and worksheets, developing restocking and testing agreements, and submitting reports.

This information collection was previously titled “Conditions for Payment of Highly Pathogenic Avian Influenza Indemnity Claims”. We are changing the name to “Conditions for Payment of Avian Influenza Indemnity Claims”.

We are asking the Office of Management and Budget (OMB) to approve our use of these information collection activities, as described, for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 2.5 hours per response.

Respondents: State and local animal health officials and poultry producers.

Estimated annual number of respondents: 18,950.

Estimated annual number of responses per respondent: 1.

Estimated annual number of responses: 19,763.

Estimated total annual burden on respondents: 48,714 hours. (Due to averaging, the total annual burden hours may not equal the product of the annual number of responses multiplied by the reporting burden per response.)

All responses to this notice will be summarized and included in the request for OMB approval. All comments will also become a matter of public record.

Done in Washington, DC, this 19th day of May 2020.
Michael Watson,
Acting Administrator, Animal and Plant Health Inspection Service.

[FR Doc. 2020-11075 Filed 5-21-20; 8:45 am]

BILLING CODE 3410-34-P